DEPARTMENT OF HOUSING AND URBAN DEVELOPMENT

[Docket No. FR-7103-N-04; OMB Control No.: 2528-0013]

60-Day Notice of Proposed Information Collection: Survey of Market Absorption of New Multifamily Units

AGENCY: Office of Policy Development and Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: May 1, 2026.

ADDRESSES: Interested persons are invited to submit comments regarding this proposal. Written comments and recommendations for the proposed information collection can be sent within 60 days of publication of this notice to www.regulations.gov. Interested persons are also invited to submit comments regarding this proposal. Comments should refer to the proposal by name and/or OMB Control Number and should be sent to: Jason Bladen, Department of Housing and Urban Development, 451 7th Street SW, Room 8222, Washington, DC 20410. Comments may also be submitted via email to PDRPublicComments@hud.gov.

FOR FURTHER INFORMATION CONTACT: Jason Bladen, Department of Housing and Urban Development, 451 7th Street SW, Washington, DC 20410; email PDRPublicComments@hud.gov, telephone (202) 402-7054. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Mr. Bladen.

SUPPLEMENTARY INFORMATION: This notice informs the public that HUD is seeking approval from OMB for the information collection described in Section A.

A. Overview of Information Collection

Title of Information Collection: Survey of Market Absorption of New Multifamily Units.

OMB Approval Number: 2528-0013.

Type of Request: Extension without change to a currently approved collection.

Form Number: N/A.

Description of the need for the information and proposed use: The Survey of Market Absorption (SOMA) provides the data necessary to measure the rate at which new rental apartments and new condominium apartments are absorbed; that is, taken off the market, usually by being rented or sold, over the course of the first 12 months following completion of a building. The data are collected at quarterly intervals until the 12 months conclude, or until the units in a building are completely absorbed. The survey also provides estimates of certain characteristics, including asking rent/price, number of units, and number of bedrooms. The survey provides a basis for analyzing the degree to which new apartment construction is meeting the present and future needs of the public.

Respondents: Rental Agents/Builders.

Estimated Number of Respondents: 12,000 yearly (maximum).

Estimated Number of Responses: 48,000 yearly (maximum).

Frequency of Response: Four times (maximum).

Average Hours per Response: 15 minutes/initial interview and 5 minutes for any subsequent interviews (up to three additional, if necessary).

Total Estimated Burdens: 6,000 (12,000 buildings × 30 minutes).

Information collection | Number of respondents | Frequency of response | Responses per annum | Burden hour per response | Annual burden hours | Hourly cost per response | Annual cost
SOMA | 12,000 | 4 | 48,000 | 0.125 (30 minutes total divided by 4 interviews) | 6,000 | $43.57 | $261,420

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 2 of the Paperwork Reduction Act of 1995, 44 U.S.C. 3507.

John Gibbs,
Principal Deputy Assistant Secretary for Policy, Development and Research.

[FR Doc. 2026-04101 Filed 2-27-26; 8:45 am]

BILLING CODE 4210-67-P